DEPARTMENT OF TRANSPORTATION

Pipeline and Hazardous Materials Safety Administration

Office of Hazardous Materials Safety; Actions on Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (June to March 2009). The mode of transportation involved are identified by a number in the “Nature of Application” portion of the table below as follows: 1—Motor vehicle, 2—Rail freight, 3—Cargo vessel, 4—Cargo aircraft only, 5 Passenger-carrying aircraft. Application numbers prefixed by the letters EE represent applications for Emergency Special Permits. It should be noted that some of the sections cited were those in effect at the time certain special permits were issued.

Issued in Washington, DC, on March 3, 2009.
Delmer F. Billings,
Director, Office of Hazardous Materials, Special Permits and Approvals.

S.P No. | S.P No. | Applicant | Regulation(s) | Nature of special permit thereof
MODIFICATION SPECIAL PERMIT GRANTED
14656-M |  | PurePak Technology, Chandler, AZ | 49 CFR 173.158(f)(3) | To modify the special permit to authorize a smaller Corporation outer packaging.
14488-M | PHMSA-08-0190 | Sanofi Pasteur, Swiftwater, PA | 49 CFR 173.24(b)(1) | To reissue the special permit originally issued on an emergency basis for the transportation in commerce of an influenza vaccine in a custom stainless steel batch reactor and to allow for renewal.
13133-M | RSPA-02-13796 | Department of Energy, Albuquerque, NM | 49 CFR 172.320; 173.54(a); 173.56(b); 173.57; 173.58; 173.62 | To modify the special permit to remove the sample limitation.
14694-M | PHMSA-08-0113 | Department of Defense, Scott AFB, IL | 49 CFR 173.62 | To reissue the special permit originally issued on an emergency basis for the transportation in commerce of certain equipment contaminated with explosives in non-DOT specification packaging.
12155-M |  | S&C Electric Company, Chicago, IL | 49 CFR 172.301(c); 173.304 | To modify the special permit to remove the placarding requirement when transporting by motor vehicle.
11379-M |  | TRW Occupant Safety Systems, Washington, MI | 49 CFR 173.301(h), 173.302 | To modify the special permit to allow the transportation in commerce of an additional Division 1.4G and Division 2.2 material.
14576-M |  | Structural Composites Industries (SCI), Pomona, CA | 49 CFR 173.302a and 173.304a | To modify the special permit to authorize an increase in the maximum water volume from 300 liters to 315 liters.
14736-M |  | Department of Defense, Scott AFB, IL | 49 CFR 172.101 Table Column (9B) and (10A) and § 173.227 | To modify the special permit to authorize the use of alternative overpacks.
14754-M |  | Sierra Chemical, Sparks, NV | 49 CFR 178.3 | To reissue the special permit originally issued on a Company emergency basis for the transportation in commerce of approximately 72,000 1-gallon polyethylene bottles that are transported under the provisions of DOT-SP 6614 except they have not been marked with the name or symbol of the bottle producer.
12574-M | RSPA-00-8318 | Weldship Corporation, Bethlehem, PA | 49 CFR 172.302(c)(2), (3), (4), (5); Subpart F of Part 180 | To modify the special permit to conform with CGA in that only one pressure relief device is required for certain gases.
14546-M | PHMSA-07-28832 | Linde North America Inc. (formerly BOC Gases), Murray Hill, NJ | 49 CFR 180.209 | To modify the special permit to remove the five year visual inspection requirement.
14652-M | PHMSA-08-0043 | Magnum Mud Equipment Co., Inc., Houma, LA | 49 CFR 171.14(d)(4) | To modify the special permit to authorize cargo vessel as an additional mode of transportation.
11516-M |  | Bridgeview Aerosol, LLC, Bridgeview, IL | 49 CFR 173.306(a)(3) | To modify the special permit to authorize an additional Division 2.2 material.
11721-M |  | Coleman Company, Inc., The Maize, KS | 49 CFR 178.65-4(c)(1) | To modify the special permit to authorize an additional Division 2.1 flammable gas.
12102-M |  | Veolia ES Technical Solutions, L.L.C., Flanders, NJ | 49 CFR 173.56(i); 173.56(b) | To modify the special permit to authorize the transportation in commerce of an additional Class 3 and Division 4.1 hazardous material.
8215-M |  | Olin Corporation, Winchester Division (Former Grantee: Olin Corporation, Brass and Winchester, Inc.), East Alton, IL | 49 CFR Part 172, Subpart E; 172.320; 173.62(c); 173.212; 172.504(e) | To modify the special permit to add a specially designed truck to haul hazardous materials.
14732-M |  | Johnson Controls Rental Solutions, Indianapolis, IN | 49 CFR 173.306(e)(1) | To reissue the special permit originally issued on the emergency basis for transportation in commerce of reconditioned (used) refrigerating machines containing a group A1 refrigerant by motor vehicle.
14715-M |  | The Linde Group, Murray Hill, NJ | 49 CFR 173.301(d)(2); 173.302(a)(3); 178.37-5 | To reissue the special permit originally issued on an emergency basis for the transportation in commerce of DOT Specification 3AAX cylinders made of 4130X steel for transportation of a compressed natural gas.
12690-M |  | Air Products & Chemicals, Inc., Allentown, PA | 49 CFR 173.304(a)(2), Note 2 | To modify the special permit to authorize ultrasonic testing of cylinders and to add a drawing.
6614-M |  | Auto-Chlor System, Memphis, TN | 49 CFR 173.202; 173.203 | To modify the special permit to authorize the transportation in commerce of an additional Class 8 material in non-DOT specification polyethylene bottles placed in a polyethylene crate.
14287-M |  | Troxler Electonic Laboratories, Inc., Research Triangle Park, NC | 49 CFR 173.431 | To modify the special permit to authorize an additional source capsule model number.
14158-M |  | UTC Power Corporation, South Windsor, CT | 49 CFR 176.83 | To modify the special permit to authorize more than one package of a Division 4.2 solid in the same assembly unit with more than one package of Class 8 liquids.
14702-M |  | CRI/Criterion, Inc. and its affiliate businesses, Houston, TX | 49 CFR 178.812(a) and 178.801(i) | To reissue the special permit originally issued on an emergency basis for the transportation in commerce of approximately 2,500 UN11HG2W, UN11HH2 and UN11HH2W certified intermediate bulk containers that do not meet all the requirements of the competent authority approval that authorized their manufacture.
14283-M |  | U.S. Department of Energy (DOE), Washington, DC | 49 CFR Part 172, Subparts E, F; 171.15; 171.16; 172.202; 172.203(c)(1)(i); 172.203(d)(1); 172.3 10; 172.316(a)(7); 172.331(b)(2); 172.332; 173.403(c); 173.425(c)(1)(iii); 173.425(c)(5); 173.443(a); 174.24; 174.25; 174.45; 174.59; 174.700; 174.715; 177.807; 177.843(a) | To modify the special permit to clarify the use of flat rail cars with capacity of four intermodal containers and maximum capacity of 160 tons.
14544-M |  | DS Containers, Inc., Batavia, IL | 49 CFR 173.306(a)(3)(v) | To modify the special permit to authorize cargo aircraft as an approved mode of transportation.
12930-M |  | Roeder Cartage Company, Inc., Lima, OH | 49 CFR 180.407(c), (e) and (f) | To modify the special permit to add an additional cargo tank.
14772-M |  | Alpha-Omega Services, Inc., Beilfiower, CA | 49 CFR 173.413 | To reissue the special permit originally issued on an emergency basis to authorize use of Type B packages for transportation in commerce of radioactive materials.
14437-M |  | Columbiana Boiler Company (CBCo), LLC, Columbiana, OH | 49 CFR 179.300 | To modify the special permit to remove the requirement to report all repairs made to pressure vessels.
14700-M |  | Fleck Controls, LLC, Chardon, OH | 49 CFR 173.302a and 173.306(g) | To modify the special permit to authorize an increase to the tank's maximum operating pressure from 100 psig to 125 psig.
14649-M |  | Olin Corporation, Winchester Division, East Alton, IL | 49 CFR 173.62(b), 172.101 column (8C), 173.60(b)(8), 172.300 and 172.400 | To modify the special permit to authorize an additional Division 1.4C hazardous material.
11666-M |  | Alcoa, Inc., Pittsburgh, PA | 49 CFR 173.240(b) | To modify the special permit to authorize the addition of intermodal containers and unitizing the electrodes with steel banding to wooden runners or to wooden pallets.
10869-M |  | Norris Cylinder Company, Longview, TX | 49 CFR 173.301(b); 173.302(a)(5); 173.304(a); 175.3 | To modify the special permit to authorize an increase of 2 inches to the length of the cylinder.
NEW SPECIAL PERMIT GRANTED
14728-N | PHMSA-08-0177 | International Isotopes Inc., Idaho Falls, ID | 49 CFR 173.416(c) | To authorize the transportation in commerce of existing Type B packagings constructed to DOT-Specification 6M, 20 WC or 21WC for the transportation of radioactive material by motor vehicle. (mode 1)
14734-N | PHMSA-08-0196 | Chlor Alkai, Olin Corporation, Cleveland, TN | 49 CFR 172.203(a), 173.26 and 179.13 | To authorize the transportation in commerce of Sodium hypochlorite in DOT specification 111A100W5 tank car tanks that exceed the maximum allowable gross weight on rail (263,000 lbs.). (mode 2)
14739-N | PHMSA-08-0200 | Battery Council International (BCI), Chicago, IL | 49 CFR 172.316 | To authorize the transportation in commerce of certain Consumer commodities that have been overpacked and do not have the correct markings on the inner package when transported by motor vehicle. (mode 1)
14741-N | PHMSA-08-0202 | Weatherford International, Fort Worth, TX | 49 CFR 173.304 | To authorize the transportation in commerce of sulfur hexafluoride in non-DOT specification cylinders. (modes 1, 3, 4, 5)
14743-N | PHMSA-08-0209 | TIER DE, Inc., Gap, PA | 49 CFR 173.24b and 173.244 | To authorize the one-time, one-way transportation in commerce of a non-DOT specification metal tank containing approximately 700 lbs. of sodium by motor vehicle. (mode 1)
14744-N | PHMSA-08-0203 | Sandia National Laboratories, Albuquerque, NM | 49 CFR 173.24(b)(1) and 173.302a | To authorize the transportation in commerce of DOT Specification 3AA and ICC 3A cylinders containing nitrogen, compressed, and a non-DOT specification refrigeration system containing helium that are installed in the Advance Flight Telescope (AFT) Payload where the cylinders release nitrogen into the satellite telescope during transportation. (modes 1, 4, 5)
14751-N | PHMSA-08-0253 | ExxonMobil, Mont Belvieu, TX | 49 CFR 173.242 | To authorize the transportation in commerce of an Organometallic substance, solid in a non-DOT specification portable tank. (modes 1, 2, 3)
14762-N | PHMSA-08-0252 | PPG Industries, Inc., Pittsburgh, PA | 49 CFR 173.173, 173.242, 172.326 and 172.504 | To authorize the transportation in commerce of certain open-top cylindrical mixing tanks containing the residue of a Class 3 hazardous material by motor vehicle. (mode 1)
14763-N | PHMSA-08-0242 | Weatherford International, Fort Worth, TX | 49 CFR 173.302a and 173.301(f) | To authorize the manufacture, marking, sale and use of a non-DOT specification cylinder similar to a DOT Specification 3A cylinder for transportation of hydrocarbon formation fluid sample from oil well sites. (modes 1, 2, 3, 4, 5)
14765-N | PHMSA-08-0254 | Chemtrade Logistics, Inc., Chicago, IL | 49 CFR 180.407 | To authorize the transportation in commerce of certain DOT Specification MC 312 and DOT 412 cargo tanks containing sulfuric acid that have been tested using alternative methods. (mode 1)
14766-N | PHMSA-08-0250 | JL Shepherd & Associates, San Fernando, CA | 49 CFR 173.416 | To authorize the continued transportation in commerce of certain DOT Specification 2OWC radioactive material packagings after October 1, 2008. (mode 1)
14768-N | PHMSA-08-0251 | Tobin & Sons Moving and Storage, Inc., Peabody, MA | 49 CFR 173.196 | To authorize the transportation of certain infectious substances by motor vehicle in alternative packaging (freezers). (mode 1)
14769-N | PHMSA-08-0248 | Pfizer, Inc., Memphis, TN | 49 CFR 173.199 | To authorize the one-way transportation in commerce of certain infectious substances in alternative packaging (freezers). (mode 1)
14770-N | PHMSA-08-0243 | Dow Chemical Company, Midland, MI | 49 CFR 173.242 | To authorize the transportation in commerce of a Divison 4.3 organometallic substance in a non-DOT specification portable tank. (modes 1, 2, 3)
14776-N | PHMSA-08-0276 | Dollar General Corporation, Scottsville, KY | 49 CFR 173.213, 172.301(a) and 172.400(a) | To authorize the one-way transportation in commerce of Class 9 hazardous waste in palletized non-DOT specification packaging with alternative marking and labeling. (mode 1)
14777-N | PHMSA-8-0273 | General Dynamics, Marion, IL | 49 CFR 173.213 | To authorize the one-way transportation in commerce of Class 9 hazardous waste in alternative packaging for approximately 8 miles by motor vehicle. (mode 1)
14782-N | PHMSA-08-0312 | Southern States, LLC, Atlanta, GA | 49 CFR 173.304a | To authorize the transportation in commerce of large pieces of electrical equipment containing a chamber which holds sulfur hexafluoride in alternative packaging. (modes 1, 2, 3)
14784-N | PHMSA-08-0311 | Weldship Corporation, Bethlehem, PA | 49 CFR 180.209(a) and (b) | To authorize the requalification of certain DOT-Specification cylinders containing Division 2.1 and 2.2 gases every ten years. (modes 1,2,3)
14786-N | PHMSA-08-0313 | Fruit of the Earth, Inc., Fort Worth, TX | 49 CFR 173.306(a)(3)(v) | To authorize the transportation in commerce of certain non-refillable aluminum cylindrical containers that are leak tested by an automated in-line pressure check in lieu of the required hot water bath. (modes 1, 2, 3, 4, 5)
14787-N | PHMSA-8-0310 | Flexcon Industries, Randolph, MA | 49 CFR 173.306(g) | To authorize the transportation in commerce of certain fiber reinforced plastic composite cylinders containing compressed air under the exception in 49 CFR 173.306(g). (modes 1,2,3)
14789-N |  | Blasting Solutions, Inc., Syracuse, UT | 49 CFR 177.835(g) | To authorize the transportation in commerce of certain detonator assemblies on the same motor vehicle with any other Class I explosives when they are in separate and isolated cargo-carrying compartments powered by the same tractor. (mode 1)
14791-N |  | Heliqwest International Inc., Montrose, CO | 49 CFR 172.101 HMT Column (9B), 172.200, 172.300, 172.400 | To authorize the transportation of certain forbidden explosives and other hazardous materials by helicopter in remote areas of the US for seismic exploration without being subject to hazard communication requirements and quantity limitations. (mode 4)
14756-N | PHMSA-08-0240 | Univation Technologies, LLC, Houston, TX | 49 CFR 173.242 | To authorize the transportation in commerce of a Division 4.2 hazardous material in a non-DOT specification portable tank. (modes 1,3)
EMERGENCY SPECIAL PERMIT GRANTED
EE 14639-M | PHMSA-08-0026 | Seacon Corporation | 49 CFR 172.407 | To modify the special permit to extend the expiration Charlotte, NC date in order to avoid significant economic loss. (mode 1)
EE 9421-M |  | Taylor-Wharton Harsco GasServ, Harrisburg, PA | 49 CFR 173.302; 173.304; 173.301(h); 173.34(a)(1); 178.37; 175.3 | To modify the special permit to authorize an alternative immersion UE test system for non-DOT specification steel cylinders transporting certain Division 2.1, 2.2 and 2.3 materials. (modes 1,2,3)
FE 14392-M |  | Department of Defense, Ft. Eustis, VA | 49 CFR 172.101 Column (10B); 176.65, 176.83(a)(b)(g), 176.84(c)(2); 176.136; and 176.144(a) | To reissue the special permit originally issued on an emergency basis for the transportation in commerce of explosives by vessel in an alternative stowage configuration. (mode 3)
EE 6810-M |  | CCH Equipment Company, Dallas, TX | 49 CFR 173.302(a)(1); 173.314(c) | To modify the special permit to add Division 2.2 hazardous materials. (mode 1)
EE 1736-M |  | ConocoPhillips, Anchorage, AK | 49 CFR 172.101 Table, Col. (9B) | To modify the special permit to add Methanol. (mode 4)
EE 11536-M |  | Boeing Company, The, Los Angeles, CA | 49 CFR 173.102 Spec. Prov. 101; 173.24(g); 173.62; 173.202; 173.304; 175.3 | To modify the special permit to authorize the transportation in commerce of Division 4.3 materials. (modes 1,3,4)
EE 14732-N |  | Johnson Controls Rental Solutions, Indianapolis, IN | 49 CFR 173.306(e)(1) | To authorize the transportation in commerce of reconditioned (used) refrigerating machines containing a group A1 refrigerant by motor vehicle. (mode 1)
EE 14735-N |  | Teledyne Energy Systems, Inc., Hunt Valley, MD | 49 CFR 173.222(c) | To authorize the transportation in commerce of certain hydrogen generators containing potassium hydroxide solution in excess of the amount authorized for shipment as Dangerous Goods in Apparatus. (modes 1,2,3,4)
EE 14736-N |  | Department of Defense, Scott AFB, IL | 49 CFR 172.101 Table Column (9B) and (10A) and § 173.227 | To authorize the transportation in commerce of Nitric acid, red fuming in alternative packaging. (modes 1, 3, 4)
EE 14737-N |  | Florida Air Transport Inc., Opa Locka, FL | 49 CFR 172.101 Column (9B) | To authorize the air transportation in commerce of certain explosives which are forbidden for shipment by cargo-only aircraft. (mode 4)
EE 14749-N |  | U.S. Environmental Protection Agency, Chicago, IL | 49 CFR 49 CFR Parts 171-180 | To authorize the transportation in commerce of hazardous materials used to support the recovery and relief efforts from and within the EPA Region 5 FEMA flood disaster areas under conditions that may not meet the requirements of the Hazardous Materials Regulations. (mode 1)
EE 14752-N |  | General Dynamics, Marion, IL | 49 CFR 178.503(a) | To authorize the one-time, one-way transportation in commerce of approximately 6,000 UN4G fiberboard boxes containing Division 1.4 explosives which have the performance standards marked incorrectly. (mode 1)
EE 14753-N |  | John G. Shedd Aquarium, Chicago, IL | 49 CFR 173.24(b)(1), 173.301(b) | To authorize the transportation in commerce of one cylinder containing compressed oxygen, accompanying several dolphins and whales that need to be relocated, for use only in the event of respiratory distress of the animals. (mode 4)
EE 14754-N |  | Sierra Chemical, Chicago, IL Company, Sparks, NV | 49 CFR 178.3 173.301(b) | To authorize the transportation in commerce of approximately 72,000 1-gallon polyethylene bottles that are transported under the provisions of DOT-SP 6614 except they have not been marked with the name or symbol of the bottle producer. (mode 1)
EE 14755-N |  | Fertilizer Institute, The, Washington, DC | 49 CFR 171.23(b)(10) and 172.502(b)(1) | To authorize the transportation in commerce of Anhydrous ammonia transported between the US and Canada with the newly implemented Canadian Anhydrous Ammonia placard. (modes 1, 2)
EE 14757-N |  | Orbital Sciences Corporation, Dulles, VA | 9 CFR 172.101, 173.301(t), 173.302a(a)(1), 173.304a(a)(2) and 175.3 | To authorize the one-time transportation in commerce of certain non-DOT specification containers containing certain 2.1, 2.2 and 2.3 liquefied and compressed gases. (modes 1, 4)
EE 14758-N |  | United States Environmental Protection Agency (Region 6), Dallas, TX | 9 CFR Parts 171-180 | This emergency special permit authorizes the transportation in commerce of hazardous materials used to support the Hurricane Gustav recovery efforts. (mode 1)
EE 14772-N |  | Alpha-Omega Services, Inc., Bellflower, CA | 49 CFR 173.413 | To authorize the continued use of Type B packages for the transportation in commerce of radioactive materials.
EE 14773-N |  | Pacific Northwest National Laboratory (PNNL), Richland, WA | 49 CFR 173.416 | To authorize the transportation in commerce of a fissile material in a non DOT specification packaging.
EE 14781-N |  | CCH Equipment Company, Dallas, TX | 49 CFR 173.302a and 173.3 14 | To authorize the transportation in commerce of compressed hydrogen in manifolded and framed non-DOT specification seamless steel cylinders originally certified as Specification DOT-107A seamless steel tank car tanks. (mode 1)
EE 14788-N |  | New York State Department of Environmental Conservation, Albany, NY | 49 CFR 173.241 | To authorize the transportation in commerce of capacitors containing polychlorinated biphenyls in a non-DOT Specification closed bulk bin. (mode 1)
EE 14790-N |  | Cargill, Incorporated and its affiliated companies, Minneapolis, MN | 49 CFR 49 CFR Parts 171-180 | To authorize the transportation in commerce of Seed cake, which is not mechanically extruded, as not subject to the Hazardous Materials Regulations. (modes 1, 3)
EE 14800-N |  | Ansul Incorporated d/b/a Tyco Fire Suppression and Building Products, Marinette, WI | 49 CFR 173.301, 173.302a and 173.309 | To authorize the transportation in commerce of approximately 2,000 non-specification cylinders charged with a nonflammable, nontoxic potassium carbgonate-based solution as Fire extinguishers, UN 1044 when transported for installation as part of a kitchen fire suppression system. (modes 1, 2)
EE 14805-N |  | Pacific Bio-Material Management. Inc., dba Pacific Scientific Transport, Fresno, CA | 49 CFR 173.150 | To authorize the transportation in commerce of limited quantities certain flammable liquids in alternative packaging. (mode 1)
MODIFICATION SPECIAL PERMIT WITHDRAWN
11526-M |  | Linde North America, Inc., Bear, DE | 49 CFR 172.302(c), (2), (3), (4), (5); 173.34(e)(1), (3), (4), (8); 173.34(15)(vi) | To modify the special permit to authorize UE examination of certain cylinders manufactured under other specified special permits.
12399-M |  | Linde North America, Inc., Murray Hill, NJ | 49 CFR 173.34(e)(1); 173.34(e)(3); 173.34(e)(4); 173.34(e)(8); 173.34(e)(14); 173.34(e)(15)(vi) | To modify the special permit to authorize removal of a test procedure for cylinders no longer in use by the applicant.
NEW SPECIAL PERMIT WITHDRAWN
14740-N | PHMSA-08-0201 | Air Products and Chemicals, Inc., Allentown, PA | 49 CFR 173.301(c) and (f) and 173.40 | To authorize the transportation in commerce of certain DOT-specification cylinders containing nitric oxide that do not meet the requirements for pressure relief devices. (modes 1, 3)
14746-N | PHMSA-08-0204 | Preferred Foam Products, Inc., Clinton, CT | 49 CFR 173.315(a) | To authorize the transportation in commerce of certain non-DOT specification portable tanks containing a Division 2.2 compressed gas. (modes 1, 2)
14780-N | PHMSA-08-0277 | Flexcon Industries, Randolph, MA | 49 CFR 173.115(b)(1) | To authorize the manufacture, marking, sale and use of pre pressurized diaphragm expansion vessels for the transportation of compressed gas. (modes 1, 2, 3)
14793-N |  | Vestara, Irvine, CA | 49 CFR 172.102(c)(1) Special provision 36 | To authorize the transportation in commerce of certain waste medicines in packagings that exceed the authorized quantity by motor vehicle. (mode 1)
EMERGENCY SPECIAL PERMIT GRANTED
EE 14745-N |  | Texas Water Treatment Services, Inc., Bridgeport, TX | 49 CFR 172.101, Column (7), special provision B2 | To authorize the transportation in commerce of certain MC-306 cargo tank motor vehicles constructed of 316 stainless steel for the transportation of Sodium hydroxide. (mode 1)
DENIED
8006-M | Request by JA-RU, Inc., Jacksonville, FL, February 25, 2009. To modify the special permit to authorize the transportation in commerce of certain toy caps by JaRu customers between their distribution centers and their retail stores without meeting the marking and packaging requirements.
14742-N | Request by Strong Environmental, Inc., Norcross, GA, October 01, 2008. To authorize the manufacture, marking, sale and use of a UN standard 4G fiberboard box for use as the outer packaging for lab pack applications in accordance with § 173.12(b).
14774-N | Request by Mercury Marine, Fond du Lac, WI, January 13, 2009. To authorize the transportation in commerce of internal combustion engines that contain small amounts of hazardous materials residue by cargo vessel.
14730-N | Request by ITW Military Products, Waterbury, CT, August 12, 2008.
11827-M |  | NRS Logistics, White Plains, NY | 49 CFR 180.605(c)(1); 180.352(b)(3) | To modify the special permit to authorize rail cargo as an approved transportation.
14729-N |  | Veolia ES Technical Solutions, L.L.C., Flanders, NJ | 49 CFR 172.102(c) Special Provision 36 | To authorize the transportation in commerce of certain waste medicines in packagings that exceed the maximum authorized net quantity as required by Special Provision 36 when transported by motor vehicle. (mode 1)
14738-N |  | Bridgeview Aerosol, LLC, Bridgeview, IL | 49 CFR 171.8 | To authorize the transportation in commerce of pure compressed gas as an ‘aerosol.’ (mode 1)
14775-N |  | Source Production & Equipment Co., Inc., St. Rose, LA | 49 CFR 173.416 | To authorize the continued transportation in commerce of one 2OWC packaging containing radioactive material after October 1, 2008. (mode 1)
14804-N |  | Cordstrap USA, Inc., Racine, WI | 49 CFR 174.55(a) | To authorize the use of a corded polyester lashing securement system for blocking and bracing hazardous materials transported by rail. (mode 2)
EE 14783-N |  | New York State Department of Environmental Conservation, Albany, NY | 49 CFR 173.240, 173.241 | To authorize the transportation in commerce of PCB capacitors in non-DOT specification bulk containers. (mode 1)

[FR Doc. E9-5005 Filed 3-12-09; 8:45 am]

BILLING CODE 4910-60-M